ENVIRONMENTAL PROTECTION AGENCY

[FRL 9485-2]

National Drinking Water Advisory Council; Notice of a Public Teleconference Meeting

AGENCY: Environmental Protection Agency.

ACTION: Notice of Public Teleconference Meeting.

SUMMARY: The U.S. Environmental Protection Agency (EPA or Agency) is announcing a public teleconference of the National Drinking Water Advisory Council (NDWAC or Council) on November 18, 2011. The Council will consult with EPA regarding potential modifications to the lead service line replacement requirements of the National Drinking Water Regulations for Lead and Copper.

DATES: The public teleconference will be held on November 18, 2011, from 10:30 a.m. to 12:30 p.m. (Eastern Standard Time).

FOR FURTHER INFORMATION CONTACT: Any interested person or organization that would like to register and receive pertinent information concerning the public teleconference may contact Suzanne Kelly, Designated Federal Officer, by mail at U.S. EPA, Office of Ground Water and Drinking Water (Mail Code 4601M), 1200 Pennsylvania Avenue NW., Washington, DC 20460; or by telephone at (202) 564-3887; or by email at kelly.suzanne@epa.gov.

SUPPLEMENTARY INFORMATION: Public Participation: The EPA encourages the public to register early because there are a limited number of phone lines and they will be made available on a first-come, first-serve basis.

Meeting Note: The public teleconference will be conducted by telephone only.

Oral Statements: Individuals or groups requesting to make an oral statement will be limited to three minutes. Those interested in being placed on the public speakers list for the November 18, 2011, teleconference should contact Ms. Kelly no later than November 16, 2011, at the contact information listed under the FOR FURTHER INFORMATION CONTACT section.

Written Statements: Written statements should be provided to Ms. Kelly no later than November 14, 2011, by fax (202) 564-3753 or via email, at the contact information listed under the FOR FURTHER INFORMATION CONTACT section. Written statements received on or prior to the due date will be distributed to the Council before any final discussion or vote is completed. Any statements received after the due date will be forwarded to the Council members for their information and will become part of the permanent meeting file.

Special Accommodations: For information on access or services for individuals with disabilities or to request accommodation of a disability, please contact Ms. Kelly at the contact information listed under the FOR FURTHER INFORMATION CONTACT section, preferably, at least 10 days before the teleconference to give the EPA as much time as possible to process your request.

Background

National Drinking Water Advisory Council: The 15 member Council was created by Congress on December 16, 1974, as part of the Safe Drinking Water Act (SDWA) of 1974 [42 U.S.C. 300j-5] to provide practical and independent advice, consultation and recommendations to the EPA Administrator on the activities, functions, policies, and regulations required by the SDWA. This Council is operated in accordance with the provisions of the SDWA and the Federal Advisory Committee Act (FACA), 5 U.S.C. App.2. More information about the Council can be found at: http://water.epa.gov/drink/ndwac/.

National Drinking Water Regulations for Lead and Copper: EPA is developing proposed revisions to the Lead and Copper Rule (LCR), which is the National Primary Drinking Water Regulation for controlling lead and copper in drinking water supplied by public water systems. EPA consulted with the NDWAC on potential revisions to the LCR on July 21, 2011. In that meeting, NDWAC deferred consultations on potential modifications to the lead service line replacement requirements of the LCR until after EPA's Science Advisory Board (SAB) issued its final report on the subject. The SAB recently finalized their report entitled “SAB Evaluation of the Effectiveness of Partial Lead Service Line Replacements.” This report contains the SAB's technical evaluation of the current scientific data regarding the effectiveness of partial lead service line replacements. The final report and more information about the SAB can be found at: http://yosemite.epa.gov/sab/sabproduct.nsf/0/964CCDB94F4E6216852579190072606F/$File/EPA-SAB-11-015-unsigned.pdf.

Dated: October 26, 2011.
Cynthia C. Dougherty,
Director, Office of Ground Water and Drinking Water.

[FR Doc. 2011-28113 Filed 10-28-11; 8:45 am]

BILLING CODE 6560-50-P